DEPARTMENT OF THE INTERIOR

National Indian Gaming Commission

25 CFR Parts 542 and 543

RIN 3141-AA-37

Minimum Internal Control Standards for Class II Gaming

AGENCY: National Indian Gaming Commission.

ACTION: Final rule; delay of effective date.

SUMMARY: The National Indian Gaming Commission (“NIGC”) announces the extension of the effective date on the final rule for Minimum Internal Control Standards for Class II Gaming. The final rule was published in the Federal Register on October 10, 2008. The Commission has changed the effective date for the amendments to §§ 542.7 and 542.16 as well as the date for operations to implement tribal internal controls found in 543.3(c)(3) to October 13, 2010, in order to extend the transition time.

DATES: Effective Date: The effective date for the amendments to §§ 542.7 and 542.16 for the final rule published October 10, 2008, at 73 FR 60492, is delayed from October 13, 2009, until October 13, 2010. The effective date for the amendment to § 543.3(c)(3) is October 9, 2009.

FOR FURTHER INFORMATION CONTACT: John R. Hay, Attorney, Office of General Counsel, at (202) 632-7003; fax (202) 632-7066 (not toll-free numbers).

SUPPLEMENTARY INFORMATION: Congress established the National Indian Gaming Commission under the Indian Gaming Regulatory Act of 1988 (25 U.S.C. 2701-21) (“IGRA”) to regulate gaming on Indian lands. The NIGC issued a final rule that superseded specified sections of established Minimum Internal Control Standards and replaced them with a new part titled Minimum Internal Control Standards Class II Gaming, that was published in the Federal Register on October 10, 2008 (73 FR 60492). The final rule provided an effective date for amendments to §§ 542.7 and 542.16 of October 13, 2009. The NIGC is extending the effective date for these amendments to October 13, 2010. The rule at § 543.3(c)(3) also set a deadline of within six months of the date the tribal gaming regulatory authorities' enactment of tribal internal controls for tribal operators to come into compliance with tribal internal controls. This deadline has likewise been extended to October 13, 2010.

List of Subjects in 25 CFR Part 543

Administrative practice and procedure, Gambling, Indians—lands, Reporting and recordkeeping requirements.

For the reasons set forth in the preamble, under the authority at 25 U.S.C. 2701, 2702, 2706, et seq., the effective date for the amendments to §§ 542.7 and 542.16 for the final rule published October 10, 2008, at 73 FR 60492, is delayed from October 13, 2009, until October 13, 2010 and 25 CFR Part 543.3 is amended as set forth below:

PART 543—MINIMUM INTERNAL CONTROL STANDARDS FOR CLASS II GAMING

1. The authority citation for Part 543 continues to read as follows:

Authority: 25 U.S.C. 2701 et seq.

2. Section 543.3 is amended by revising paragraph (c)(3) to read as follows:

§ 543.3 How do tribal governments comply with this part?

* * * * *

(c) * * *

(3) Establish a deadline, no later than October 13, 2010, by which a gaming operation must come into compliance with the tribal internal control standards. However, the tribal gaming regulatory authority may extend the deadline by six months if written notice citing justification is provided to the Commission no later than two weeks before the deadline.

* * * * *

Dated: October 5, 2009.
George T. Skibine,
Acting Chairman.
Norman H. DesRosiers,
Vice Chairman.

[FR Doc. E9-24434 Filed 10-8-09; 8:45 am]

BILLING CODE 7565-01-P